DEPARTMENT OF COMMERCE

International Trade Administration

[A-570-104, C-570-105]

Antidumping Duty Order on Alloy and Certain Carbon Steel Threaded Rod and Countervailing Duty Order on Carbon and Alloy Steel Threaded Rod From the People's Republic of China: Final Results of Changed Circumstances Reviews, Revocation of the Antidumping and Countervailing Duty Orders, in Part, and Rescission of Scope Inquiry

AGENCY: Enforcement and Compliance, International Trade Administration, Department of Commerce.

SUMMARY: The U.S. Department of Commerce (Commerce) is issuing the final results of changed circumstances reviews (CCRs) of the antidumping duty (AD) order on alloy and certain carbon steel threaded rod from the People's Republic of China and the countervailing duty (CVD) order on carbon and alloy steel threaded rod from China (collectively, steel threaded rod from China) to revoke the orders, in part, with respect to certain wheel studs. Commerce is also rescinding the scope inquiry with respect to the same products.

DATES: Applicable November 20, 2024.

FOR FURTHER INFORMATION CONTACT: Yang Jin Chun, AD/CVD Operations, Office I, Enforcement and Compliance, International Trade Administration, U.S. Department of Commerce, 1401 Constitution Avenue NW, Washington, DC 20230; telephone: (202) 482-5760.

SUPPLEMENTARY INFORMATION:

Background

On April 9, 2020, Commerce published the AD and CVD orders on steel threaded rod from China in the Federal Register.¹ On October 15, 2024, Commerce published its initiation and preliminary results of the CCRs of the Orders ² in the Federal Register, in which Commerce found that changed circumstances warranted revocation of the Orders in part with respect to certain wheel studs. Commerce provided interested parties with the opportunity to comment and request a public hearing regarding the Preliminary Results. Commerce did not receive any comments or a request for a hearing from interested parties.

¹ See Alloy and Certain Carbon Steel Threaded Rod from the People's Republic of China: Antidumping Duty Order, 85 FR 19929 (April 9, 2020) (AD Order), and Carbon and Alloy Steel Threaded Rod from India and the People's Republic of China: Countervailing Duty Orders, 85 FR 19927 (April 9, 2020) (CVD Order) (collectively Orders).

² See Antidumping Duty Order on Alloy and Certain Carbon Steel Threaded Rod and Countervailing Duty Order on Carbon and Alloy Steel Threaded Rod from the People's Republic of China: Initiation and Preliminary Results of Changed Circumstances Reviews and Intent to Revoke the Antidumping and Countervailing Duty Orders, in Part, and Preliminary Intent to Rescind Scope Inquiry, 89 FR 82972 (October 15, 2024) (Preliminary Results).

Final Results of CCRs and Revocation of the Orders, in Part

We conducted these CCRs based on a request from Logistical Resource Development Inc. (LRD), an importer of merchandise subject to these CCRs. LRD requested that Commerce retroactively revoke the Orders, in part, pursuant to section 751(b)(1)(A) of the Tariff Act of 1930, as amended (the Act), and 19 CFR 351.216(b) with respect to certain wheels studs.³ Because no party submitted comments opposing the Preliminary Results of these CCRs, and the record contains no other information or evidence that calls into question the Preliminary Results, Commerce determines, pursuant to sections 751(d)(1) and 782(h) of the Act, and 19 CFR 351.222(g), that there are changed circumstances that warrant revocation of the Orders, in part, with respect to certain wheel studs subject to LRD's request. Consequently, there is no decision memorandum accompanying this notice.

³ See LRD's Letter, “Request for an Expedited Changed Circumstances Review to Amend the Scope of the Order,” dated August 23, 2024 (CCR Request).

Specifically, because producers accounting for substantially all the production of the domestic like product to which the Orders pertain have not expressed interest in maintaining the relief provided by the Orders with respect to certain wheel studs, as described below, Commerce is revoking the Orders, in part, with respect to certain wheel studs with the following physical characteristics:

• A wheel stud that has an M12 diameter and 1.5RH thread spacing threaded stud with a 6mm-wide inset hex head measuring 49mm long, part of the threaded length being divided by a 5mm unthreaded band which creates an 11.5mm threaded section for insertion that is also M12 diameter and 1.5RH thread spacing.

• A wheel stud that has an M12 diameter and 1.5RH thread spacing threaded stud with a 6mm-wide inset hex head measuring 49mm long, part of the threaded length being divided by a 5mm unthreaded band which creates an 11.5mm threaded section for insertion that is also M12 diameter and 1.5RH thread spacing.

• A wheel stud that has an M12 diameter and 1.5RH thread spacing threaded stud with a 6mm-wide inset hex head measuring 80mm, part of the threaded length being divided by a 5mm unthreaded band which creates an 11.5mm threaded section for insertion that is also M12 diameter and 1.5RH thread spacing.

• A wheel stud that has an M12 diameter and 1.5RH thread spacing threaded stud with a 6mm-wide inset hex head measuring 95mm long, part of the threaded length being divided by a 5mm unthreaded band which creates an 11.5mm threaded section for insertion that is also M12 diameter and 1.5RH thread spacing.

• A wheel stud that has an M14 diameter and 1.25RH thread spacing threaded stud with a 6mm-wide inset hex head measuring 75mm, part of the threaded length being divided by a 5mm unthreaded band which creates an 11.5mm threaded section for insertion that is also M14 diameter and 1.25RH thread spacing.

• A wheel stud that has an M14 diameter and 1.25RH thread spacing threaded stud with a 6mm-wide inset hex head measuring 92mm, part of the threaded length being divided by a 5mm unthreaded band which creates an 11.5mm threaded section for insertion that is also M14 diameter and 1.25RH thread spacing.

• A wheel stud that has an M12 diameter and 1.5RH thread spacing threaded stud with a 6mm-wide inset hex head measuring 49mm, part of the threaded length being divided by a 5mm unthreaded band which creates an 11.5mm threaded section for insertion that is M14 diameter and 1.5RH thread spacing.

• A wheel stud that has an M12 diameter and 1.5RH thread spacing threaded stud with a 6mm-wide inset hex head measuring 49mm, part of the threaded length being divided by a 5mm unthreaded band which creates an 11.5mm threaded section for insertion that is M14x1.25.

• A wheel stud that has an M12 diameter and 1.5RH thread spacing threaded stud with a 6mm-wide inset hex head measuring 44mm long, part of the threaded length being divided by a 5mm unthreaded band which creates an 11.5mm threaded section for insertion that is M14 diameter and 1.5 thread spacing.

• A wheel stud that has an M14 diameter and 1.5RH thread spacing threaded stud with a 6mm-wide inset hex head measuring 49mm long, part of the threaded length being divided by a 5mm unthreaded band which creates a 12.5mm threaded section for insertion that is also M14 diameter and 1.5RH thread spacing.

• A wheel stud that has an M14 diameter and 1.5RH thread spacing threaded stud with a 6mm-wide inset hex head measuring 64mm long, part of the threaded length being divided by a 5mm unthreaded band which creates and 21.5mm threaded section for insertion that is also M14 diameter and 1.5RH thread spacing.

• A wheel stud that has an M12 diameter and 1.5RH thread spacing threaded stud with a 6mm-wide inset hex head measuring 61mm long, part of the threaded length being divided by a 5mm unthreaded band which creates an 11.5mm threaded section for insertion.

• A wheel stud that has an M12 diameter and 1.5RH thread spacing threaded stud with a 6mm-wide inset hex head measuring 49mm long, part of the threaded length being divided by a 5mm unthreaded band which creates an 11.5mm threaded section for insertion that is M14 diameter and 1.5 thread spacing.

The revised scope of the AD Order and the CVD Order is below.

Scope of the AD Order

The scope of the AD order covers alloy and certain carbon steel threaded rod. Alloy and certain carbon steel threaded rod are certain threaded rod, bar, or studs, of carbon or alloy steel, having a solid, circular cross section of any diameter, in any straight length. Alloy and certain carbon steel threaded rod are normally drawn, cold rolled, threaded, and straightened, or it may be hot-rolled. In addition, the alloy and certain carbon steel threaded rod, bar, or studs subject to this order are non-headed and threaded along greater than 25 percent of their total actual length. A variety of finishes or coatings, such as plain oil finish as a temporary rust protectant, zinc coating (i.e., galvanized, whether by electroplating or hot-dipping), paint, and other similar finishes and coatings, may be applied to the merchandise.

Alloy steel threaded rod is normally produced to American Society for Testing and Materials (ASTM) specifications A193 B7/B7m, A193 B16, A320 L7/L7m, A320 L43, A354 BC and BD, and F1554 Grade 105. Other specifications are Society of Automotive Engineers (SAE) specification 1429 grades 5 and 8, International Organization for Standardization (ISO) specification 898 class 8.8 and 10.9, and American Petroleum Institute (API) specification 20E. Certain carbon steel threaded rod is normally produced to ASTM specification A449. All steel threaded rod meeting the physical description set forth above is covered by the scope of this order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of the order if performed in the country of manufacture of the threaded rod. Alloy and certain carbon steel threaded rod are also included in the scope of this order whether or not imported attached to, or in conjunction with, other parts and accessories such as nuts and washers. If carbon and alloy steel threaded rod are imported attached to, or in conjunction with, such non-subject merchandise, only the threaded rod is included in the scope.

Excluded from the scope of this order are: (1) threaded rod, bar, or studs which are threaded only on one or both ends and the threading covers 25 percent or less of the total actual length; and (2) stainless steel threaded rod, defined as steel threaded rod containing, by weight, 1.2 percent or less of carbon and 10.5 percent or more of chromium, with or without other elements.

Excluded from the scope of the AD order on steel threaded rod from China is any merchandise covered by the existing AD order on certain steel threaded rod from China. See Certain Steel Threaded Rod from the People's Republic of China: Notice of Antidumping Duty Order, 74 FR 17154 (April 14, 2009).

Specifically excluded from the scope of this order is threaded rod that is imported as part of a package of hardware in conjunction with a ready-to-assemble piece of furniture.

Wheel studs with the following characteristics are excluded from the scope of this order:

• A wheel stud that has an M12 diameter and 1.5RH thread spacing threaded stud with a 6mm-wide inset hex head measuring 49mm long, part of the threaded length being divided by a 5mm unthreaded band which creates an 11.5mm threaded section for insertion that is also M12 diameter and 1.5RH thread spacing.

• A wheel stud that has an M12 diameter and 1.5RH thread spacing threaded stud with a 6mm-wide inset hex head measuring 49mm long, part of the threaded length being divided by a 5mm unthreaded band which creates an 11.5mm threaded section for insertion that is also M12 diameter and 1.5RH thread spacing.

• A wheel stud that has an M12 diameter and 1.5RH thread spacing threaded stud with a 6mm-wide inset hex head measuring 80mm, part of the threaded length being divided by a 5mm unthreaded band which creates an 11.5mm threaded section for insertion that is also M12 diameter and 1.5RH thread spacing.

• A wheel stud that has an M12 diameter and 1.5RH thread spacing threaded stud with a 6mm-wide inset hex head measuring 95mm long, part of the threaded length being divided by a 5mm unthreaded band which creates an 11.5mm threaded section for insertion that is also M12 diameter and 1.5RH thread spacing.

• A wheel stud that has an M14 diameter and 1.25RH thread spacing threaded stud with a 6mm-wide inset hex head measuring 75mm, part of the threaded length being divided by a 5mm unthreaded band which creates an 11.5mm threaded section for insertion that is also M14 diameter and 1.25RH thread spacing.

• A wheel stud that has an M14 diameter and 1.25RH thread spacing threaded stud with a 6mm-wide inset hex head measuring 92mm, part of the threaded length being divided by a 5mm unthreaded band which creates an 11.5mm threaded section for insertion that is also M14 diameter and 1.25RH thread spacing.

• A wheel stud that has an M12 diameter and 1.5RH thread spacing threaded stud with a 6mm-wide inset hex head measuring 49mm, part of the threaded length being divided by a 5mm unthreaded band which creates an 11.5mm threaded section for insertion that is M14 diameter and 1.5RH thread spacing.

• A wheel stud that has an M12 diameter and 1.5RH thread spacing threaded stud with a 6mm-wide inset hex head measuring 49mm, part of the threaded length being divided by a 5mm unthreaded band which creates an 11.5mm threaded section for insertion that is M14x1.25.

• A wheel stud that has an M12 diameter and 1.5RH thread spacing threaded stud with a 6mm-wide inset hex head measuring 44mm long, part of the threaded length being divided by a 5mm unthreaded band which creates an 11.5mm threaded section for insertion that is M14 diameter and 1.5 thread spacing.

• A wheel stud that has an M14 diameter and 1.5RH thread spacing threaded stud with a 6mm-wide inset hex head measuring 49mm long, part of the threaded length being divided by a 5mm unthreaded band which creates a 12.5mm threaded section for insertion that is also M14 diameter and 1.5RH thread spacing.

• A wheel stud that has an M14 diameter and 1.5RH thread spacing threaded stud with a 6mm-wide inset hex head measuring 64mm long, part of the threaded length being divided by a 5mm unthreaded band which creates and 21.5mm threaded section for insertion that is also M14 diameter and 1.5RH thread spacing.

• A wheel stud that has an M12 diameter and 1.5RH thread spacing threaded stud with a 6mm-wide inset hex head measuring 61mm long, part of the threaded length being divided by a 5mm unthreaded band which creates an 11.5mm threaded section for insertion.

• A wheel stud that has an M12 diameter and 1.5RH thread spacing threaded stud with a 6mm-wide inset hex head measuring 49mm long, part of the threaded length being divided by a 5mm unthreaded band which creates an 11.5mm threaded section for insertion that is M14 diameter and 1.5 thread spacing.

Alloy and certain carbon steel threaded rod are currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

Scope of the CVD Order

The scope of the CVD order covers carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to this order are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A320 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of this order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of this order if performed in the country of manufacture of the threaded rod.

Carbon and alloy steel threaded rod are also included in the scope of this order whether or not imported attached to, or in conjunction with, other parts and accessories such as nuts and washers. If carbon and alloy steel threaded rod are imported attached to, or in conjunction with, such non-subject merchandise, only the threaded rod is included in the scope.

Excluded from the scope of this order are: (1) threaded rod, bar, or studs which are threaded only on one or both ends and the threading covers 25 percent or less of the total actual length; and (2) stainless steel threaded rod, defined as steel threaded rod containing, by weight, 1.2 percent or less of carbon and 10.5 percent or more of chromium, with or without other elements.

Excluded from the scope of the AD order on steel threaded rod from China is any merchandise covered by the existing AD order on certain steel threaded rod from China. See Certain Steel Threaded Rod from the People's Republic of China: Notice of Antidumping Duty Order, 74 FR 17154 (April 14, 2009).

Specifically excluded from the scope of this order is threaded rod that is imported as part of a package of hardware in conjunction with a ready-to-assemble piece of furniture.

Wheel studs with the following characteristics are excluded from the scope of this order:

• A wheel stud that has an M12 diameter and 1.5RH thread spacing threaded stud with a 6mm-wide inset hex head measuring 49mm long, part of the threaded length being divided by a 5mm unthreaded band which creates an 11.5mm threaded section for insertion that is also M12 diameter and 1.5RH thread spacing.

• A wheel stud that has an M12 diameter and 1.5RH thread spacing threaded stud with a 6mm-wide inset hex head measuring 49mm long, part of the threaded length being divided by a 5mm unthreaded band which creates an 11.5mm threaded section for insertion that is also M12 diameter and 1.5RH thread spacing.

• A wheel stud that has an M12 diameter and 1.5RH thread spacing threaded stud with a 6mm-wide inset hex head measuring 80mm, part of the threaded length being divided by a 5mm unthreaded band which creates an 11.5mm threaded section for insertion that is also M12 diameter and 1.5RH thread spacing.

• A wheel stud that has an M12 diameter and 1.5RH thread spacing threaded stud with a 6mm-wide inset hex head measuring 95mm long, part of the threaded length being divided by a 5mm unthreaded band which creates an 11.5mm threaded section for insertion that is also M12 diameter and 1.5RH thread spacing.

• A wheel stud that has an M14 diameter and 1.25RH thread spacing threaded stud with a 6mm-wide inset hex head measuring 75mm, part of the threaded length being divided by a 5mm unthreaded band which creates an 11.5mm threaded section for insertion that is also M14 diameter and 1.25RH thread spacing.

• A wheel stud that has an M14 diameter and 1.25RH thread spacing threaded stud with a 6mm-wide inset hex head measuring 92mm, part of the threaded length being divided by a 5mm unthreaded band which creates an 11.5mm threaded section for insertion that is also M14 diameter and 1.25RH thread spacing.

• A wheel stud that has an M12 diameter and 1.5RH thread spacing threaded stud with a 6mm-wide inset hex head measuring 49mm, part of the threaded length being divided by a 5mm unthreaded band which creates an 11.5mm threaded section for insertion that is M14 diameter and 1.5RH thread spacing.

• A wheel stud that has an M12 diameter and 1.5RH thread spacing threaded stud with a 6mm-wide inset hex head measuring 49mm, part of the threaded length being divided by a 5mm unthreaded band which creates an 11.5mm threaded section for insertion that is M14x1.25.

• A wheel stud that has an M12 diameter and 1.5RH thread spacing threaded stud with a 6mm-wide inset hex head measuring 44mm long, part of the threaded length being divided by a 5mm unthreaded band which creates an 11.5mm threaded section for insertion that is M14 diameter and 1.5 thread spacing.

• A wheel stud that has an M14 diameter and 1.5RH thread spacing threaded stud with a 6mm-wide inset hex head measuring 49mm long, part of the threaded length being divided by a 5mm unthreaded band which creates a 12.5mm threaded section for insertion that is also M14 diameter and 1.5RH thread spacing.

• A wheel stud that has an M14 diameter and 1.5RH thread spacing threaded stud with a 6mm-wide inset hex head measuring 64mm long, part of the threaded length being divided by a 5mm unthreaded band which creates and 21.5mm threaded section for insertion that is also M14 diameter and 1.5RH thread spacing.

• A wheel stud that has an M12 diameter and 1.5RH thread spacing threaded stud with a 6mm-wide inset hex head measuring 61mm long, part of the threaded length being divided by a 5mm unthreaded band which creates an 11.5mm threaded section for insertion.

• A wheel stud that has an M12 diameter and 1.5RH thread spacing threaded stud with a 6mm-wide inset hex head measuring 49mm long, part of the threaded length being divided by a 5mm unthreaded band which creates an 11.5mm threaded section for insertion that is M14 diameter and 1.5 thread spacing.

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

Application of the Final Results of Review

LRD requested that Commerce apply the final results of these CCRs retroactively, effective January 1, 2022.⁴ Section 751(d)(3) of the Act provides that Commerce determines the date of application of the revocation of an order.⁵ In the Preliminary Results, we stated our intent “to apply the partial revocation to unliquidated entries of merchandise subject to the CCRs that were entered or withdrawn from warehouse, for consumption, as of January 1, 2022,” and invited comments.⁶ As explained above, we received no comments opposing the intended retroactive application of the partial revocation. Therefore, Commerce is applying the partial revocation to unliquidated entries of merchandise subject to the CCRs that were entered, or withdrawn from warehouse, for consumption, on or after January 1, 2022.

⁴ See CCR Request at 1.

⁵ See section 751(d)(3) of the Act (“determination under this section to revoke an order or finding or terminate a suspended investigation shall apply with respect to unliquidated entries of the subject merchandise which are entered, or withdrawn from warehouse, for consumption on or after the date determined by the administering authority.”).

⁶ See Preliminary Results, 89 FR at 82974.

Instructions to U.S. Customs and Border Protection (CBP)

Because we determine there are changed circumstances that warrant the revocation of the Orders, in part, we will instruct CBP to liquidate without regard to antidumping or countervailing duties, and to refund any estimated antidumping and countervailing duties deposited on all unliquidated entries of the merchandise entered, or withdrawn from warehouse, for consumption on or after January 1, 2022, that are covered by the revocation of the Orders, in part.

Commerce intends to issue instructions to CBP no earlier than 35 days after the date of publication of these final results of CCRs in the Federal Register. If a timely summons is filed at the U.S. Court of International Trade, the instructions will direct CBP not to liquidate relevant entries until the time for parties to file a request for a statutory injunction has expired (i.e., within 90 days of publication).

Rescission of the Scope Inquiry

In the Preliminary Results, we stated our intent to rescind the concurrent scope inquiry of the Orders on steel threaded rod from China with respect to the same wheel studs for which we are revoking the Orders in part and invited comments.⁷ We received no comments from interested parties. Because we are revoking the Orders in part with respect to the same wheel studs that are subject to the concurrent scope inquiry, the concurrent scope inquiry is moot. Therefore, we are rescinding the concurrent scope inquiry in accordance with 19 CFR 351.225(f)(6).

⁷ Id.; see also Memorandum, “Comments Deadlines for Intent to Rescind the Scope Inquiry on Wheel Studs,” dated October 8, 2024.

Administrative Protective Order (APO)

This notice serves as a final reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is published in accordance with sections 751(b)(1) and 777(i) of the Act, and 19 CFR 351.216, 351.221(c)(3), 351.222, and 351.225(f)(6).

Dated: November 13, 2024.
Abdelali Elouaradia,
Deputy Assistant Secretary for Enforcement and Compliance.

[FR Doc. 2024-27007 Filed 11-19-24; 8:45 am]

BILLING CODE 3510-DS-P